DEPARTMENT OF COMMERCE

United States Patent and Trademark Office

Agency Information Collection Activities; Submission to the Office of Management and Budget (OMB) for Review and Approval; Comment Request; Post Allowance and Reissue

Correction

In notice document 2022-25362, appearing on page 71307 through 71310 in the issue of Tuesday, November 22, 2022, make the following correction:

On page 71307, in the third column, in the DATES section, in the fourth line, “February 21, 2023” is corrected to read “January 23, 2023”.

[FR Doc. C1-2022-25362 Filed 11-25-22; 8:45 am]

BILLING CODE 0099-10-P